DEPARTMENT OF COMMERCE

International Trade Administration

[A-570-803]

Heavy Forged Hand Tools, Finished or Unfinished, With or Without Handles, From the People's Republic of China: Rescission of Antidumping Duty Administrative Review

AGENCY: Import Administration, International Trade Administration, Department of Commerce.

SUMMARY: On March 5, 2008, the Department of Commerce (“the Department”) published a notice preliminarily rescinding the administrative review on the antidumping duty order on heavy forged hand tools from the People's Republic of China, covering the period February 1, 2006, through January 31, 2007. See Heavy Forged Hand Tools, Finished or Unfinished, With or Without Handles, From the People's Republic of China: Preliminary Rescission of Antidumping Duty Administrative Review, 73 FR 11867 (March 5, 2008) (“Preliminary Rescission”). We gave interested parties an opportunity to comment on the Preliminary Rescission. Based upon our analysis of the comments and information received, we have made no changes to the preliminary rescission. We find that there is no evidence that Truper Herraminetas S.A. de C.V. (“Truper”) made sales of the subject merchandise to the United States during the period of review (“POR”).

DATES: Effective Date: September 4, 2008.

FOR FURTHER INFORMATION CONTACT: Javier Barrientos AD/CVD Operations, Office 9, Import Administration, International Trade Administration, U.S. Department of Commerce, 14th Street and Constitution Avenue, NW., Washington, DC 20230; telephone: (202) 482-2243.

SUPPLEMENTARY INFORMATION:

Case History

On March 5, 2008, the Department published its Preliminary Rescission. On April 4, 2008, Council Tool Company (a domestic interested party) filed a timely case brief. On August 9, 2008, Truper filed a timely rebuttal brief. On July 10, 2008, the Department published a notice extending the final results by 60 days to September 2, 2008.¹ See Heavy Forged Hand Tools, Finished or Unfinished, With or Without Handles, From the People's Republic of China: Notice of Extension of Time Limit for the Final Results of Antidumping Duty Administrative Review, 73 FR 39655 (July 10, 2008).

¹ Sixty days from July 3, 2008, is September 1, 2008. However, Department practice dictates that where a deadline falls on a federal holiday, the appropriate deadline is the next business day. See Notice of Clarification: Application of “Next Business Day” Rule for Administrative Determination Deadlines Pursuant to the Act, 70 FR 24533 (May 10, 2005).

Scope of the Review

The products covered by these orders are HFHTs from the PRC, comprising the following classes or kinds of merchandise: (1) Hammers and sledges with heads over 1.5 kg (3.33 pounds); (2) bars over 18 inches in length, track tools and wedges; (3) picks and mattocks; and (4) axes, adzes and similar hewing tools. HFHTs include heads for drilling hammers, sledges, axes, mauls, picks and mattocks, which may or may not be painted, which may or may not be finished, or which may or may not be imported with handles; assorted bar products and track tools including wrecking bars, digging bars and tampers; and steel wood splitting wedges. HFHTs are manufactured through a hot forge operation in which steel is sheared to required length, heated to forging temperature, and formed to final shape on forging equipment using dies specific to the desired product shape and size. Depending on the product, finishing operations may include shot blasting, grinding, polishing and painting, and the insertion of handles for handled products. HFHTs are currently provided for under the following Harmonized Tariff System of the United States (“HTSUS”) subheadings: 8205.20.60, 8205.59.30, 8201.30.00, 8201.40.60, and 8205.59.5510. Specifically excluded from these investigations are hammers and sledges with heads 1.5 kg. (3.33 pounds) in weight and under, hoes and rakes, and bars 18 inches in length and under. The HTSUS subheadings are provided for convenience and customs purposes. The written description remains dispositive.

The Department issued nine conclusive scope rulings regarding the merchandise covered by these orders: (1) On August 16, 1993, the Department found the “Max Multi-Purpose Axe,” imported by the Forrest Tool Company, to be within the scope of the axes/adzes order; (2) on March 8, 2001, the Department found “18-inch” and “24-inch” pry bars, produced without dies, imported by Olympia Industrial, Inc. and SMC Pacific Tools, Inc., to be within the scope of the bars/wedges order; (3) on March 8, 2001, the Department found the “Pulaski” tool, produced without dies by TMC, to be within the scope of the axes/adzes order; (4) on March 8, 2001, the Department found the “skinning axe,” imported by Import Traders, Inc., to be within the scope of the axes/adzes order; (5) on December 9, 2004, the Department found the “MUTT,” imported by Olympia Industrial, Inc., under HTSUS 8205.59.5510, to be within the scope of the axes/adzes order; (6) on May 23, 2005, the Department found 8-inch by 8-inch and 10-inch by 10-inch cast tampers, imported by Olympia Industrial, Inc. to be outside the scope of the orders; (7) on September 22, 2005, following remand, the U.S. Court of International Trade affirmed the Department's determination that cast picks are outside the scope of the order; (8) on October 14, 2005, the Department found the Mean Green Splitting Machine, imported by Avalanche Industries, under HTSUS 8201.40.60, to be within the scope of the bars/wedges order, and (9) on July 27, 2006, the Department found that the gooseneck claw wrecking bar which has a length of 17 7/8″ not including the curvature portion of the bar stock, imported by Central Purchasing, LLC, to be outside the scope of the order for bars and wedges.

Analysis of Comments Received

All issues raised in the case and rebuttal briefs by parties to this proceeding and to which we have responded are listed in the Appendix to this notice and addressed in the Issues and Decision Memorandum (“Final Decision Memo”), which is hereby adopted by this notice. Parties can find a complete discussion of the issues raised in this administrative review and the corresponding recommendations in this public memorandum which is on file in the Central Records Unit of the main Department building. In addition, a copy of the Final Decision Memo can be accessed directly on our Web site at http://ia.ita.doc.gov/. The paper copy and electronic version of the Final Decision Memo are identical in content.

Rescission of Review

In our Preliminary Rescission, in accordance with 19 CFR 351.213(d)(3), we preliminarily rescinded the review for all four orders for Truper. For these final results, in accordance with 19 CFR 351.213(d)(3), we are continuing to rescind this administrative review with respect to all four orders for Truper. The Department verified data from Truper, which supports its claim that it did not export subject merchandise to the United States during the POR. Furthermore, no party placed evidence on the record demonstrating that Truper exported the merchandise identified above during the POR to the United States since the issuance of the Preliminary Rescission. Therefore, in accordance with 19 CFR 351.213(d)(3) and consistent with the Department's practice, we are rescinding this administrative review with respect to the hammers/sledges, picks/mattocks, axes/adzes, and bars/wedges for Truper.

We are issuing and publishing this administrative review and notice in accordance with sections 751(a) and 777(i) of the Tariff Act of 1930, as amended.

Dated: August 28, 2008.
David M. Spooner,
Assistant Secretary for Import Administration.

Appendix I—Decision Memorandum

I. Rescission of Antidumping Duty Administrative Review

[FR Doc. E8-20539 Filed 9-3-08; 8:45 am]

BILLING CODE 3510-DS-P